DEPARTMENT OF JUSTICE

Federal Bureau of Investigation

Meeting of the CJIS Advisory Policy Board

AGENCY: Federal Bureau of Investigation (FBI), DOJ.

ACTION: Meeting notice.

SUMMARY: The purpose of this notice is to announce the meeting of the Criminal Justice Information Services (CJIS) Advisory Policy Board. The CJIS Advisory Policy Board is responsible for reviewing policy issues, uniform crime reports, and appropriate technical and operational issues related to the programs administered by the FBI CJIS Division and thereafter, make appropriate recommendations to the FBI Director. The topics to be discussed will include proposals and enhancements to the National Crime Information Center (NCIC) Convicted Sexual Offender Registry File, an update on the CJIS Security Policy, and an overview of the use of Immigration and Naturalization Service records in relation to the National Instant Criminal Background Check System (NICS). Discussion will also include the status on future enhancements to the Integrated Automated Fingerprint Identification Systems (IAFIS), IAFIS latent fingerprint processing, the National Crime Prevention and Privacy Compact, the NCIC Protection Order File, and other issues related to the IAFIS, NCIC, Law Enforcement Online, NICS, and Uniform Crime Reporting Programs.

The meeting will be open to the public on a first-come, first-seated basis. Any member of the public wishing to file a written statement concerning the FBI's CJIS Division programs or wishing to address this session should notify the Designated Federal Employee, Mr. Don M. Johnson, Section Chief, Programs Development Section (304) 625-2740, at least 24 hours prior to the start of the session.

The notification should contain the requestor's name, corporate designation, and consumer affiliation or government designation along with a short statement describing the topic to be addressed and the time needed for the presentation. A requestor will ordinarily be allowed not more than 15 minutes to present a topic.

DATES AND TIMES: The Advisory Policy Board will meet in open session from 9 a.m. until 5 p.m. on June 13-14, 2000.

ADDRESSES: The meeting will take place at the Portland Hilton, 921 S.W. Sixth Avenue, Portland, Oregon, telephone (503) 226-1611.

FOR FURTHER INFORMATION CONTACT: Inquiries may be addressed to Mrs. Diane M. Shaffer, Management Analyst, Advisory Groups Management Unit, Programs Development Section, FBI CJIS Division, Module C3, 1000 Custer Hollow Road, Clarksburg, West Virginia 26306-0149, telephone (304) 625-2615, facsimile (304) 625-5090.

Dated: March 14, 2000.
Don M. Johnson,
Section Chief, Programs Development Section, Criminal Justice Information Services Division, Federal Bureau of Investigation.

[FR Doc. 00-7297 Filed 3-23-00; 8:45 am]

BILLING CODE 4410-02-M